DEPARTMENT OF COMMERCE

National Oceanic and Atmospheric Administration

RIN 0648-XW11

Marine Mammals; File No. 14514

AGENCY: National Marine Fisheries Service (NMFS), National Oceanic and Atmospheric Administration (NOAA), Commerce.

ACTION: Notice; receipt of application.

SUMMARY: Notice is hereby given that the University of Florida, Aquatic Animal Program, College of Veterinary Medicine, Gainesville, FL 32610 (Ruth Francis-Floyd, Responsible Party) has applied in due form for a permit to receive, import and export marine mammal specimens for scientific research.

DATES: Written, telefaxed, or e-mail comments must be received on or before June 2, 2010.

ADDRESSES: The application and related documents are available for review by selecting “Records Open for Public Comment” from the Features box on the Applications and Permits for Protected Species (APPS) home page, https://apps.nmfs.noaa.gov, and then selecting File No. 14514 from the list of available applications.

These documents are also available upon written request or by appointment in the following office(s):

Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Kate Swails, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The objectives of this research are to study various aspects of disease afflicting marine mammals including viral pathogens and brevetoxin studies; develop a marine mammal histology database and atlas, marine mammal cell lines; and conduct comparative morphology. Marine mammal parts would be obtained from the following sources: samples collected as part of routine husbandry procedures using captive stocks; other permitted academic, federal, and state institutions involved in marine mammal research; in conjunction with legal subsistence harvests; from marine mammals caught incidental to fisheries; or from animals in foreign countries following the host countries legal operations. The samples would then be received or imported to the investigators. Samples may be exported for research or archiving. Marine mammal parts (hard and soft parts) would not exceed 200 animals per year from animals within the order Cetacea (dolphins, porpoises and whales) and 100 animals per year from animals within the order Pinnipedia (sea lions and seals but excluding walruses), with unlimited sampling from each animal to maximize use. There would not be incidental take or take of live animals. The requested permit period is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 26, 2010.
P. Michael Payne,
Chief, Permits, Conservation and Education Division, Office of Protected Resources, National Marine Fisheries Service.

[FR Doc. 2010-10259 Filed 4-30-10; 8:45 am]

BILLING CODE 3510-22-S